NATIONAL SCIENCE FOUNDATION

Proposal Review Panel for Ocean Sciences; Notice of Meeting

In accordance with the Federal Advisory Committee Act (Pub., L. 92-463, as amended), the National Science Foundation (NSF) announces the following meeting:

Name and Committee Code: Proposal Review Panel for Ocean Sciences—Mid-Award Site Visit Review of JRSO for the Division of Ocean Sciences (#10752).

Date and Time: July 19-21, 2022; 9:00 a.m.-5:00 p.m. (Central).

Place: JOIDES Resolution Science Operator (JRSO); International Ocean Discovery Program (IODP), Texas A&M University, 1000 Discovery Drive, College Station, TX 77845 (In-Person).

Type of Meeting: Part-Open.

Contact Persons: James Allan, National Science Foundation, 2415 Eisenhower Avenue, Alexandria, VA 22314; Telephone: (703) 292-8144.

Purpose of Meeting: NSF site visit to conduct a renewal review during year 3 of the award period as stipulated in the cooperative agreement..

Agenda: All times are Central Daylight Time (CDT).

Tuesday, July 19, 2022

9:00 a.m.-9:15 a.m.: NSF and Panel introduction (Open)

9:15 a.m.-11:00 a.m.: Initial Report of the JOIDES Resolution Science Operator (JRSO) (Open)

11:00 a.m.-12:00 p.m.: Co-Chief Review Reports for FY2020 and 2021 (Open)

12:00 p.m.-1:00 p.m.: Lunch (onsite)

1:00 p.m.-2:00 p.m.: JRSO response to Co-Chief Review Reports (Open; break in middle)

2:00 p.m.-4:00 p.m.: JRSO discussion of major challenges and successes in the operational context, and how they are responding (Open)

(1) COVID-19 Pandemic Effects and Mitigation (Open)

(2) Rebuilding of the vessel drill rig and refurbishment of the thrusters and other items (Open)

(3) Management/oversight of vessel and wireline logging contracts (Open)

(4) Scheduling, including clearance and environmental issues (Open)

(5) Staffing science party (Open)

(6) Management of JRSO staff (Closed)

4:00 p.m.-5:00 p.m.: Site Visit Panel discussion of presentations and overnight questions to JRSO (Closed)

Wednesday, July 20, 2022

9:00 a.m.-10:00 a.m.: Meet with JRSO staff (Open)

10:00 a.m.-11:00 a.m.: JRSO response to overnight questions (Open)

11:00 a.m.-12:00 p.m.: Effectiveness of IODP Programmatic Planning Structure (Open)

12:00 p.m.-1:00 p.m.: Lunch (onsite)

1:00 p.m.-2:00 p.m.: JRSO discussion of major challenges in providing services and innovation to IODP science community, and how they are responding (Open)

2:00 p.m.-4:00 p.m.: JRSO Presentation on 5-year post-IODP legacy activities (Open)

4:00 p.m.-5:00 p.m.: Site Visit Panel Discussion on Panel Report structure and overnight questions to JRSO (Closed)

Thursday, July 21, 2022

9:00 a.m.-10:00 a.m.: Site Visit Panel discussion; work on Report (Closed)

10:00 a.m.-11:00 a.m.: Response of JRSO to Panel questions (Open)

11:00 a.m.-12:00 p.m.: Site Visit Panel discussion; work on Report (Closed)

12:00 p.m.-1:00 p.m.: Lunch (Closed)

1:00 p.m.-3:30 p.m.: Site Visit Panel discussion; work on Report (Closed)

3:30 p.m.-4:00 p.m.: Break

4:00 p.m.-5:00 p.m.: Site Visit Panel presents Report and Recommendations to JRSO (Closed)

Reason for Closing: Topics to be discussed and evaluated during closed portions of the site review will include information of a proprietary or confidential nature, including technical information, and information on personnel. These matters are exempt under 5 U.S.C. 552b(c), (4) and (6) of the Government in the Sunshine Act.

Dated: May 25, 2022.
Crystal Robinson,
Committee Management Officer.

[FR Doc. 2022-11618 Filed 5-27-22; 8:45 am]

BILLING CODE 7555-01-P